DEPARTMENT OF THE INTERIOR

Bureau of Land Management

[NV-060-5874-EU; N-84039; 8-08807; TAS: 14X5260]

Notice of Realty Action: Segregation of Public Land in Lander County, NV

AGENCY: Bureau of Land Management, Interior.

ACTION: Notice.

SUMMARY: Two parcels of public land of approximately 878.34 acres in Lander County, Nevada are being considered for sale under the provisions of Section 203 of the Federal Land Policy Management Act of 1976 (FLPMA), at no less than the appraised fair market value. This notice is to segregate the lands being considered for sale for a period of up to two years.

DATES: Interested parties may submit written comments to the Bureau of Land Management (BLM) regarding the segregation of these lands until December 1, 2008.

ADDRESSES: Mail written comments to the BLM Field Manager, Battle Mountain District Office, Mount Lewis Field Office, 50 Bastian Road, Battle Mountain, NV 89820.

FOR FURTHER INFORMATION CONTACT: Chuck Lane, (775) 635-4168.

SUPPLEMENTARY INFORMATION: The following public lands in Lander County, Nevada, are being considered for sale under the authority of Section 203 of the Federal Land Policy and Management Act of 1976, (43 U.S.C. 1713):

Mount Diablo Meridian, Nevada

T. 17 N., R. 41 E.,

Sec. 13, W½.

T. 17 N., R. 42 E.,

Sec. 18, Lots 2 to 4, inclusive, E½, SE¼NW¼, E½SW¼.

The area described contains 878.34 acres, more or less.

The 1986 BLM Shoshone-Eureka Resource Management Plan identifies these parcels of public land as suitable for disposal. The sale meets the disposal qualification of Section 205 of the Federal Land Transaction Facilitation Act of July 25, 2000, 43 U.S.C. 2304. The sale will be subject to the provisions of FLPMA and applicable regulations of the Secretary of the Interior, and will contain the reservation to the United States of a right-of-way thereon for ditches or canals constructed by the authority of the United States, Act of August 30, 1890 (43 U.S.C. 945). Conveyance of the identified public land will be subject to valid existing rights and encumbrances of record, including but not limited to, rights-of-way for roads and public utilities. Conveyance of any mineral interests pursuant to Section 209 of the Act of October 21, 1976 (43 U.S.C. 1719) will be analyzed during processing of the proposed sale.

On publication of this notice in the Federal Register, the described land will be segregated from appropriation under the public land laws, including the mining laws, except the sale provisions of the FLPMA. On segregation, the BLM will no longer accept land use applications affecting the identified public land, except applications for the amendment of previously filed right-of-way applications or existing authorizations to increase the term of the grants in accordance with 43 CFR 2807.15 and 2886.15. The segregative effect will terminate upon issuance of a patent, publication in the Federal Register of a termination of the segregation, or two years after the date of publication of this notice, unless extended by the BLM Nevada State Director in accordance with 43 CFR 2711.1-2(d) prior to the termination date.

Interested parties and the general public may submit in writing any comments concerning the land being considered for sale, including notification of any encumbrances or other claims relating to the identified land to Field Manager, BLM Battle Mountain Field Office.

Only written comments submitted by postal service or overnight mail to the Field Manager, BLM Battle Mountain District Office will be considered properly filed. Facsimiles, telephone calls, and electronic mails are unacceptable means of notification. Before including your address, phone number, e-mail, or other personal identifying information in your comment, you should be aware that your entire comment—including your personal identifying information—may be made publicly available at any time. While you can ask us in your comment to withhold your personal identifying information from public review, we cannot guarantee that we will be able to do so. If you wish to have your name or address withheld from public disclosure under the Freedom of Information Act, you must state this prominently at the beginning of your comments. Any determination by the BLM to release or withhold the names and/or addresses of those who comment will be made on a case-by-case basis. Such requests will be honored to the extent allowed by law. The BLM will make available for public review, in their entirety, all comments submitted by businesses or organizations, including comments by individuals in their capacity as an official or representative of a business or organization.

Any adverse comments will be reviewed by the BLM Nevada State Director who may sustain, vacate, or modify this realty action. In the absence of any adverse comments, this realty action will become the final determination of the Department of the Interior.

(Authority: 43 CFR 2711.1-2)

Dated: September 30, 2008.
Stephen C. Drummond,
Acting Field Manager, Mount Lewis Field Office.

[FR Doc. E8-24386 Filed 10-14-08; 8:45 am]

BILLING CODE 4310-HC-P